DEPARTMENT OF AGRICULTURE

Animal and Plant Health Inspection Service

[Docket No. APHIS-2021-0008]

Notice of Request for Approval of an Information Collection; National Animal Health Monitoring System; On-Farm Monitoring of Antimicrobial Use and Resistance in U.S. Broiler Production Study

AGENCY: Animal and Plant Health Inspection Service, USDA.

ACTION: New information collection; comment request.

SUMMARY: In accordance with the Paperwork Reduction Act of 1995, this notice announces the Animal and Plant Health Inspection Service's intention to request approval of a new information collection associated with the National Animal Health Monitoring System's On-Farm Monitoring of Antimicrobial Use and Resistance in U.S. Broiler Production Study.

DATES: We will consider all comments that we receive on or before May 17, 2021.

ADDRESSES: You may submit comments by either of the following methods:

• Federal eRulemaking Portal: Go to www.regulations.gov. Enter APHIS-2021-0008 in the Search field. Select the Documents tab, then select the Comment button in the list of documents.

• Postal Mail/Commercial Delivery: Send your comment to Docket No. APHIS-2021-0008, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the NAHMS On-Farm Monitoring of Antimicrobial Use and Resistance in U.S. Broiler Production Study, contact Mr. Bill Kelley, Assistant Director, Program Coordination and Implementation, Center for Epidemiology and Animal Health, VS, 2150 Centre Avenue, Building B, Fort Collins, CO 80524; (970) 494-7270. For information on the information collection process, contact Mr. Joseph Moxey, APHIS Information Collection Coordinator, at (301) 851-2483; joseph.moxey@usda.gov.

SUPPLEMENTARY INFORMATION:

Title: National Animal Health Monitoring System; On-Farm Monitoring of Antimicrobial Use and Resistance in U.S. Broiler Production Study.

OMB Control Number: 0579-XXXX.

Type of Request: Approval of a new information collection.

Abstract: Under the Animal Health Protection Act (7 U.S.C. 8301 et seq.), the Secretary of the U.S. Department of Agriculture (USDA) is authorized to protect the health of the livestock, poultry, and aquaculture populations in the United States by preventing the introduction and interstate spread of serious diseases and pests of livestock, poultry, and aquaculture, and for eradicating such diseases and pests from the United States, when feasible. Within the USDA, this authority and mission is delegated to the Animal and Plant Health Inspection Service (APHIS).

In connection with this mission, APHIS operates the National Animal Health Monitoring System (NAHMS), which collects on a national basis, statistically valid and scientifically sound data on the prevalence and economic importance of livestock, poultry, and aquaculture disease risk factors. APHIS is the only agency responsible for collecting data on livestock, poultry, and aquaculture health. NAHMS' studies have evolved into a collaborative industry and Government initiative to help determine the most effective means of preventing and controlling diseases of livestock, poultry, and aquaculture. Participation in any NAHMS study is voluntary, and all data are confidential.

APHIS plans to conduct the On-Farm Monitoring of Antimicrobial Use and Resistance in U.S. Broiler Production Study as part of an ongoing series of NAHMS studies on the U.S. livestock, poultry, and aquaculture populations. This study will support the following objectives: (1) Measure and track trends in antimicrobial use (AMU) and antimicrobial resistance (AMR) in broiler complexes within participating companies over time; (2) Evaluate the relationship between AMU patterns and AMR measured in select bacterial species collected; and (3) Quantify antimicrobial resistance genes in the litter of sampled broiler farms and examine the relationship between these quantities and antimicrobial use patterns.

This study is an information collection conducted by APHIS through a cooperative agreement with the University of Minnesota. The university completed previous work for APHIS under a different cooperative agreement in which APHIS received reports and completed analyses but not farm-level data. APHIS now seeks access to farm-level data that is presented in a manner in which the farms are not identified.

This study will monitor U.S. broiler operations for AMU, AMR, animal health and production practices, and the relationship between AMU, AMR, animal health, production practices, and changes over time. We will collect annual informed consent forms from producers, quarterly survey data, and litter samples from the same poultry complexes, and examine AMR in bacteria such as Salmonella and Campylobacter. This study meets objectives for both the U.S. National Action Plan for Combating Antibiotic Resistance (2015) and the USDA AMR National Action Plan (2013). Additionally, this information is an essential component in accomplishing one of APHIS' strategic goals, which is to safeguard American agriculture.

APHIS and the University of Minnesota will analyze and organize the information into one or more descriptive reports and scientific manuscripts, and for important or special topics, APHIS will develop and disseminate targeted information sheets to producers, stakeholders, academicians, veterinarians, and any other interested parties. This information benefits the poultry industry by supplying scientific estimates of AMU and stewardship by poultry producers and evaluation of the influence of these and other management practices on AMR.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.5 hours per response.

Respondents: Broiler producers.

Estimated annual number of respondents: 30.

Estimated annual number of responses per respondent: 20.

Estimated annual number of responses: 588.

Estimated total annual burden on respondents: 866 hours. (Due to averaging, the total annual burden hours may not equal the product of the annual number of responses multiplied by the reporting burden per response.)

All responses to this notice will be summarized and included in the request for OMB approval. All comments will also become a matter of public record.

Done in Washington, DC, this 10th day of March 2021.
Mark Davidson,
Acting Administrator, Animal and Plant Health Inspection Service.

[FR Doc. 2021-05360 Filed 3-15-21; 8:45 am]

BILLING CODE 3410-34-P